DEPARTMENT OF DEFENSE

Office of the Secretary

[Docket ID: DOD-2019-OS-0081]

Department of Defense Science and Technology Reinvention Laboratory (STRL) Personnel Demonstration (Demo) Project

AGENCY: Under Secretary of Defense for Research and Engineering, (USD(R&E)), Department of Defense (DoD).

ACTION: This notice provides a new authority to all STRL Personnel Demonstration Projects.

SUMMARY: STRLs with published demonstration project plans may implement a new program that provides the authority to offer voluntary assignments in the STRLs to private and public sector United States (U.S.) citizens.

DATES: This proposal may not be implemented until a 30-day comment period is provided, comments addressed, and a final Federal Register notice (FRN) published. To be considered, written comments must be submitted on or before August 2, 2019.

ADDRESSES: You may submit comments, identified by docket number and title, by any of the following methods:

Federal eRulemaking Portal: http://www.regulations.gov. Follow the instructions for submitting comments.

Mail: Department of Defense, Office of the Chief Management Officer, Directorate for Oversight and Compliance, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT:

Department of the Air Force

• Air Force Research Laboratory: Ms. Rosalyn Jones-Byrd, Directorate of Personnel, 1864 4th Street, Wright-Patterson Air Force Base, OH 45433-5209;

• Joint Warfare Analysis Center: Ms. Amy Balmaz, 4048 Higley Road, Dahlgren, VA 22448.

Department of the Army

• Army Research Institute: Dr. Scott Shadrick, 6000 6th Street, Bldg. 1464, Fort Belvoir, VA 22060-5586;

• Army Research Laboratory: Ms. Dianne Hawkins, AMSRD-ARL-O-HR, 2800 Powder Mill Road, Adelphi, MD 20783-1197;

• Combat Capabilities Development Command-Armaments Center: Mr. Mike Nicotra, Human Capital Management Office, Building 1, 3rd Floor, RDAR-EIH, Picatinny Arsenal, NJ 07806-5000;

• Combat Capabilities Development Command-Aviation and Missile Center: Ms. Nancy Salmon, 5400 Fowler Road, Redstone Arsenal, AL 35898-5000;

• Combat Capabilities Development Command-Chemical Biological Center: Ms. Patricia Milwicz, Office of the Technical Director, Workforce Management Office, Department of the Army, ATTN: RDCB-DPC-W, 5183 Blackhawk Road, Building 3330, Aberdeen Proving Ground, MD 21010-5424;

• Combat Capabilities Development Command-Command, Control, Communications, Computers, Cyber, Intelligence, Surveillance, and Reconnaissance Center: Mr. Christopher Tahaney, C5ISR Campus Building 6002, Room D3126D, ATTN: RDER-DOS-ER, Aberdeen Proving Ground, MD 21005;

• Combat Capabilities Development Command-Ground Vehicle Systems Center: Ms. Jennifer Davis, ATTN: RDTA-CS/MS 204, Warren, MI 48397-5000;

• Combat Capabilities Development Command-Soldier Center: Ms. Joelle Montecalvo, Kansas Street, (AMSRD-NSR-BO-W), Natick, MA 01760;

• Engineer Research and Development Center: Ms. Patricia Sullivan, 3909 Halls Ferry Road, Vicksburg, MS 39180-6199;

• Medical Research and Materiel Command: Ms. Linda Krout, 505 Scott St., Fort Detrick, MD 21702-5000;

• Technical Center, Space and Missile Defense Command/Army Forces Strategic Command (SMDC/ARSTRAT): Mr. Chad Marshall, 5220 Martin Road, Redstone Arsenal, AL 35898-5000.

Department of the Navy

• Naval Air Warfare Center, Weapons Division and Aircraft Division: Mr. Richard Cracraft, Weapons Division, Code 730000D, 1 Administration Circle, Building 00464, China Lake, CA 93555-6100;

• Naval Facilities Engineering Command Engineering and Expeditionary Warfare Center: Ms. Lori Leigh, Code BD13, 1000 23rd Avenue, Port Hueneme, CA 93043.

• Naval Information Warfare Centers:

○ Naval Information Warfare Centers Atlantic: Ms. Veronica Truesdale, P.O. Box 190022, North Charleston, SC 29419-9022; and

○ Naval Information Warfare Centers Pacific: Ms. Angela Hanson, 53560 Hull Street, San Diego, CA 92152-5001;

• Naval Medical Research Center: Dr. James Andrews, 503 Robert Grant Ave., Silver Spring, MD 20910-7500;

• Naval Research Laboratory: Ms. Ginger Kisamore, 4555 Overlook Avenue SW, Washington, DC 20375-5320;

• Naval Sea Systems Command Warfare Centers: Ms. Diane Brown, Philadelphia Division, 5001 South Broad Street, Philadelphia, PA 19112-5083;

• Office of Naval Research: Ms. Margaret J. Mitchell, 875 North Randolph Street, Code BD, Arlington, VA 22203;

DoD

• Dr. Jagadeesh Pamulapati, Director, Laboratories and Personnel, 4800 Mark Center Drive, Alexandria, VA 22350.

SUPPLEMENTARY INFORMATION:

1. Background

Section 342(b) of the National Defense Authorization Act (NDAA) for Fiscal Year (FY) 1995, as amended by section 1109 of the NDAA for FY 2000, and section 1114 of the NDAA for FY 2001, authorizes the Secretary of Defense (SECDEF) to conduct personnel demonstration projects at DoD laboratories designated as STRLs. Most STRLs have a Voluntary Emeritus Program or Voluntary Emeritus Corps flexibility that permits STRLs to offer voluntary assignments to individuals who have retired or separated from Federal service. This new authority will expand this flexibility to permit STRLs to offer the same type of voluntary assignments to U.S. citizens who have not retired or separated from Federal service. Volunteer service will not be used to replace any employee, or interfere with career opportunities of employees. The Volunteer Emeritus Program may not be used to replace or substitute for work performed by civilian employees occupying regular positions required to perform the STRLs mission.

The 20 current STRLs are:

• Air Force Research Laboratory

• Joint Warfare Analysis Center

• Army Research Institute for the Behavioral and Social Sciences

• Army Research Laboratory

• Combat Capabilities Development Command-Armaments Center

• Combat Capabilities Development Command-Aviation and Missile Center

• Combat Capabilities Development Command-Chemical Biological Center

• Combat Capabilities Development Command-Command, Control, Communications, Computers, Cyber, Intelligence, Surveillance, and Reconnaissance Center

• Combat Capabilities Development Command-Ground Vehicle Systems Center

• Combat Capabilities Development Command-Soldier Center

• Engineer Research and Development Center

• Medical Research and Materiel Command

• Technical Center, U.S. Army Space and Missile Defense Command/Army Forces Strategic Command

• Naval Air Systems Command Warfare Centers

• Naval Facilities Engineering Command Engineering and Expeditionary Warfare Center

• Naval Information Warfare Centers, Atlantic and Pacific

• Naval Medical Research Center

• Naval Research Laboratory

• Naval Sea Systems Command Warfare Centers

• Office of Naval Research

2. Overview

I. Introduction

A. Purpose

The Voluntary Expert Program will allow U.S. citizens to provide commercial and public sector knowledge, experience and advice, and valuable mentoring to STRL employees.

B. Required Waivers to Law and Regulation

None.

C. Participating Organizations and Employees

All DoD laboratories designated as STRLs under section 1105 of the NDAA for FY 2010, section 1103 of the NDAA for FY 2015 and section 1104 of the NDAA for FY 2018 (including any newly designated STRLs authorized by SECDEF or by future legislation) with published demonstration project plans may use the provisions described in this FRN. STRLs implementing this flexibility must fulfill any collective bargaining obligations. Each STRL will establish internal operating procedures as appropriate. Authorized STRLs and correlated FRNs are listed in Appendix A.

II. Personnel System Changes

All current and future STRL personnel demonstration project plans are hereby amended to add the following:

A. Voluntary Expert Program

Under the demonstration project, STRLs have the authority to offer voluntary assignments to U.S. citizens who are retired, separated, or on sabbatical from private or public sector organizations. The Voluntary Expert Program will provide opportunities for these individuals to bring commercial sector or public sector knowledge and experience into the STRLs. The Voluntary Expert Program will not be used to replace any employee or interfere with employees' career opportunities. The Volunteer Emeritus Program may not be used to replace or substitute for work performed by civilian employees occupying regular positions required to perform the STRLs mission.

To be accepted into the Voluntary Expert Program, an individual must be a U.S. citizen and must be recommended by an STRL manager. No one is entitled to participate in the Voluntary Expert Program, and application to the Voluntary Expert Program does not guarantee acceptance into the Program or assignment at an STRL. The STRL must clearly document the decision process and decision rationale for each Voluntary Expert Program applicant (regardless of whether the applicant is accepted or rejected for the program) and must retain this documentation throughout the assignment (for accepted applicants), or for two years (for rejected applicants). Voluntary Expert Program participants will not be permitted to perform any inherently governmental function, or to participate in any contracts or solicitations for which the participant has a conflict of interest. Voluntary Expert Program participants are not permitted to participate in contract source selections, nor are they permitted to have access to contractor bid or proposal information or source selection information, or to data or information that is protected by the Trade Secrets Act (18 U.S.C. 1905) without a written agreement between the Voluntary Expert Program participant and the owner of the data or information.

The Voluntary Expert Program participant shall be required to enter a written agreement with the STRL as a condition of participation in the Program. The agreement will be reviewed by the local Legal Office for legal sufficiency prior to signature. The agreement must be finalized before the Voluntary Expert Program participant assumes any duties and shall include, at a minimum:

(a) A statement that the voluntary assignment does not constitute an appointment in the civil service and is without compensation, and any and all claims against the Government (because of the voluntary assignment) are waived by the Voluntary Expert Program participant;

(b) a statement that the Voluntary Expert Program participant will be considered a federal employee solely for the purpose of:

(1) Sections 201, 203, 205, 207, 208, 209, 603, 606, 607, 643, 654, 1905, and 1913 of title 18, U.S.C.;

(2) Sections 1343, 1344, and 1349(b) of title 31, U.S.C.;

(3) Chapters 73 and 81 of title 5, U.S.C.;

(4) The Ethics in Government Act of 1978;

(5) Chapter 21 of title 41, U.S.C.;

(6) 28 U.S.C. chapter 171 (tort claims procedure), and any other Federal tort liability statute; and

(7) 5 U.S.C. 552a (records maintained on individuals).

(c) the Voluntary Expert Program participant's work schedule;

(d) the length of the agreement (defined by length of project or time defined by weeks, months, or years);

(e) the support to be provided by the STRL (travel, administrative, office space, supplies);

(f) the Voluntary Expert Program participant's duties;

(g) a provision allowing either party to void the agreement with at least two working days' written notice;

(h) the level of security access required (any security clearance required by the assignment will be managed by the STRL while the participant is a member of the Voluntary Expert Program.

(i) a provision that any written products prepared for publication that are related to Volunteer Expert Program participation will be submitted to the STRL director for review and must be approved prior to publication,

(j) a statement that the Volunteer Expert Program participant accepts accountability for loss or damage to Government property occasioned by the Volunteer Expert Program participant's negligence or willful action;

(k) a statement that the activities of the Volunteer Expert Program participant on the premises will conform to the regulations and requirements of the organization;

(l) a statement that the Volunteer Expert Program participant will not improperly use or disclose any non-public information, to include any pre-decisional or draft deliberative information related to DoD programming, budgeting, resourcing, acquisition, procurement or other matter, for the benefit or advantage of the Volunteer Expert or any non-Federal entities. Volunteer Expert Program participants will handle all non-public information in a manner that reduces the possibility of improper disclosure;

(m) a statement that the Volunteer Expert Program participant agrees to disclose any inventions made in the course of work performed at the STRL. The STRL will have the option to obtain title to any such invention on behalf of the U.S. Government. Should the STRL Director elect not to take title, the STRL will retain a non-exclusive, irrevocable, paid up, royalty-free license to practice or have practiced the invention worldwide on behalf of the U.S. Government;

(n) a statement that the Volunteer Expert Program participant must complete either a Confidential or Public Financial Disclosure Report, whichever applies; a disqualification statement prohibiting the Volunteer Expert program participant from working on matters related to his or her former employer; and ethics training in accordance with Office of Government Ethics regulations prior to implementation of the written agreement; and

(o) a statement that the Volunteer Expert Program participant must receive post-government employment advice from a DoD ethics counselor at the conclusion of program participation. Volunteer Expert Program participants are deemed Federal employees for purposes of post-government employment restrictions.

A written Memorandum of Agreement (MOA) between the STRL and the Volunteer Expert Program participant is required and must include all items above, regardless of format used. The use and wording of the MOA will be provided in the internal operating procedures of the STRL.

B. Evaluation

As part of an annual program evaluation, STRLs will provide specific information concerning the use of this authority to the Director, Defense Laboratories Office.

Appendix A

Authorized STRLs and Federal Register Notices
STRL | Federal Register notice
Air Force Research Laboratory | 61 FR 60400 amended by 75 FR 53076.
Joint Warfare Analysis Center | Not yet published.
Combat Capabilities Development Command-Armaments Center | 76 FR 3744.
Army Research Institute for Behavioral and Social Sciences | Not yet published.
Army Research Laboratory | 63 FR 10680.
Combat Capabilities Development Command-Aviation and Missile Center | 62 FR 34906 and 62 FR 34876 amended by 65 FR 53142 (AVRDEC and AMRDEC merged together).
Combat Capabilities Development Command-Chemical Biological Center | 74 FR 68936.
Combat Capabilities Development Command- Command, Control, Communications, Cyber, Intelligence, Surveillance, and Reconnaissance Center | 66 FR 54872.
Engineer Research and Development Center | 63 FR 14580 amended by 65 FR 32135.
Combat Capabilities Development Command- Ground Vehicle Systems Center | 76 FR 12508.
Medical Research and Materiel Command | 63 FR 10440.
Combat Capabilities Development Command Soldier Center | 74 FR 68448.
Technical Center, U.S. Army Space and Missile Defense Command/Army Forces Strategic Command | Not yet published.
Naval Air Systems Command Warfare Centers | 76 FR 8530.
Naval Facilities Engineering Command Engineering and Expeditionary Warfare Center | Not yet published.
Naval Information Warfare Centers, Atlantic and Pacific | 76 FR 1924.
Naval Medical Research Center | Not yet published.
Naval Research Laboratory | 64 FR 33970.
Naval Sea Systems Command Warfare Centers | 62 FR 64050.
Office of Naval Research | 75 FR 77380.

Dated: June 27, 2019.
Aaron T. Siegel,
Alternate OSD Federal Register Liaison Officer, Department of Defense.

[FR Doc. 2019-14191 Filed 7-2-19; 8:45 am]

BILLING CODE 5001-06-P